DEPARTMENT OF ENERGY

Federal Energy Regulatory Commission

[Docket No. CP04-51-000]

ANR Pipeline Company; Notice of Application

January 21, 2004.

Take notice that ANR Pipeline Company (ANR), Nine E. Greenway Plaza, Houston, Texas 77046, filed in Docket No. CP04-51-000 on January 12, 2004, an application pursuant to sections 7(b) and 7(c) of the Natural Gas Act (NGA), as amended, for authority to (1) replace a 4.7-mile section of an existing 14-inch mainline pipe with 30-inch pipe in Washington County, Wisconsin; (2) construct and install a 3.5-mile, 8-inch looping pipeline in Brown County, Wisconsin; and (3) at an existing compressor station in Oconto County, Wisconsin, add a gas cooling unit, re-wheel an existing 9100 hp compressor unit. ANR states that the proposed project, referred to as the EastLeg Project, is intended to provide service to two new power plants, all as more fully set forth in the application which is on file with the Commission and open to public inspection. ANR further states that this filing may be also viewed on the Web at http://www.ferc.gov using the “eLibrary” link, enter the docket number excluding the last three digits in the docket number field to access the document. For assistance, call (866) 208-3676 or TTY, (202) 502-8659.

Any questions regarding this application should be directed to Kevin Erwin, Senior Counsel, ANR Pipeline Company, Nine E. Greenway Plaza, Suite 1866, Houston, Texas 77046, phone (832) 676-5501 or fax (832) 676-2251.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons may wish to comment only on the environmental review of these projects. Environmental commenters will be placed on the Commission's environmental mailing list, will receive copies of environmental documents issued by the Commission, and will be notified of meetings associated with the Commission's environmental review process. Environmental commenters will not be required to serve copies of filed documents on all other parties. However, environmental commenters are also not parties to the proceeding and will not receive copies of all documents filed by other parties or nonenvironmental documents issued by the Commission. They will not have the right to seek court review of the Commission's final order. Concidentally with this Notice of Application, the Commission is issuing a notice regarding the environmental comment process. This notice describes the comment procedures and comment deadline.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

Comment Date: February 11, 2004.

Magalie R. Salas,
Secretary.

[FR Doc. E4-120 Filed 1-27-04; 8:45 am]

BILLING CODE 6717-01-P